DEPARTMENT OF ENERGY

Federal Energy Regulatory Commission

[Docket No. RP01-205-008]

Southern Natural Gas Company; Notice of Negotiated Rate Tariff Filing

June 10, 2005.

Take notice that on June 3, 2005, Southern Natural Gas Company (Southern) tendered for filing the tariff sheets set forth below to reflect new negotiated rate arrangements resulting from the addition of new consenting parties to Southern's settlement dated April 29, 2005 in Docket No. RP04-523, new negotiated rate arrangements with existing parties or new shippers on Southern's system, corrections to negotiated rate arrangements shown in Southern's previous filings and name changes for existing negotiated rate arrangements.

Sixth Revised Sheet No. 23 April 1, 2005

Seventh Revised Sheet No. 23 May 1, 2005

First Revised Original Sheet No. 23A March 1, 2005

Substitute First Revised Sheet No. 23A April 1, 2005

Second Revised Sheet No. 23A May 1, 2005

First Revised Sheet No. 23B March 1, 2005

Second Revised Sheet No. 23B April 1, 2005

First Revised Sheet No. 23D April 1, 2005

First Revised Sheet No. 23E April 1, 2005

First Revised Sheet No. 23F March 1, 2005

Second Revised Sheet No. 23G March 1, 2005

Second Revised Sheet No. 23H March 1, 2005

First Revised Sheet No. 23J April 1, 2005

Second Revised Sheet No. 23J May 1, 2005

First Revised Sheet No. 23K March 1, 2005

Second Revised Sheet No. 23K May 1, 2005

First Revised Sheet No. 23L March 1, 2005

Second Revised Sheet No. 23L April 1, 2005

First Revised Sheet No. 23M March 1, 2005

Southern requests that the Commission grant such approval of the tariff sheets effective March 1, 2005, April 1, 2005 or May 1, 2005, as set forth above.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-3110 Filed 6-16-05; 8:45 am]

BILLING CODE 6717-01-P